DEPARTMENT OF HOUSING AND URBAN DEVELOPMENT

[Docket No. FR-5480-N-46]

Notice of Submission of Proposed Information Collection to OMB; Emergency Comment Request; Section 8 Random Digit Dialing Fair Marketing Rent Surveys

AGENCY: Office of the Chief Information Officer, HUD.

ACTION: Notice of proposed information collection.

SUMMARY: The proposed information collection requirement described below has been submitted to the Office of Management and Budget (OMB) for emergency review and approval, as required by the Paperwork Reduction Act. The Department is soliciting public comments on the subject proposal.

These surveys provide HUD with a way to estimate Section 8 Fair Market Rents (FMRs) in areas not covered by the American Community Survey annual reports and in areas where FMRs are believed to be incorrect. The affected public would be those renters random selected to be surveyed and Section 8 voucher holders. The change in this request from what has been approved is to include the use of cell phones, mail surveys and web-based surveys. The burden on the respondent and on those contacted but screened out is to less than in the previous requests because fewer surveys are being conducted. Minor changes have been made to the survey instrument to make it clearer .

DATES: Comments Due Date: June 23, 2011.

ADDRESSES: Interested persons are invited to submit comments regarding this proposal. Comments must be received within thirty (30) days from the date of this Notice. Comments should refer to the proposal by name and/or OMB approval number (2528-0142) and should be sent to: HUD Desk Officer, Office of Management and Budget, New Executive Office Building, Washington, DC 20503; e-mail: OIRA-Submission@omb.eop.gov; fax: 202-395-3086.

FOR FURTHER INFORMATION CONTACT: Colette Pollard, Departmental Reports Management Officer, QDAM, Department of Housing and Urban Development, 451 7th Street, SW., Washington, DC 20410; e-mail Colette.Pollard@HUD.gov; telephone (202) 402-3400. This is not a toll-free number. Copies of available documents submitted to OMB may be obtained from Ms. Pollard.

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond, including through the use of appropriate automated collection techniques or other forms of information technology (e.g., permitting electronic submission of responses).

This Notice also lists the following information:

Title of Proposal: Section 8 Random Digit Dialing Fair Marketing Rent Surveys.

Description of Information Collection: These surveys provide HUD with a way to estimate Section 8 Fair Market Rents (FMRs) in areas not covered by the American Community Survey annual reports and in areas where FMRs are believed to be incorrect. The affected public would be those renters random selected to be surveyed and Section 8 voucher holders. The change in this request from what has been approved is to include the use of cell phones, mail surveys and web-based surveys. The burden on the respondent and on those contacted but screened out is to less than in the previous requests because fewer surveys are being conducted. Minor changes have been made to the survey instrument to make it clearer.

OMB Control Number: 2528-0142.

Agency Form Numbers: None.

Members of Affected Public: Individuals or Households.

| Number of respondents | Annual responses | × | Hours per response | = | Burden hours
Reporting Burden | 2,314 | 1 |  | 0.260 |  | 602

Status of the proposed information collection: Emergency Collection.

Authority: The Paperwork Reduction Act of 1995, 44 U.S.C. Chapter 35, as amended.

Dated: May 18, 2011.
Colette Pollard,
Departmental Reports Management Officer, Officer of the Chief Information Officer.

[FR Doc. 2011-12805 Filed 5-23-11; 8:45 am]

BILLING CODE 4210-67-P